DEPARTMENT OF ENERGY

Federal Energy Regulatory Commission

[Docket No. EC05-46-000, et al.]

CEMEX, Inc., et al.; Electric Rate and Corporate Filings

February 11, 2005.

The following filings have been made with the Commission. The filings are listed in ascending order within each docket classification.

1. CEMEX, Inc., CEMEX Central Plains Cement LLC, Votorantim Participações S.A.

[Docket No. EC05-46-000]

Take notice that on February 9, 2005, CEMEX, Inc. and CEMEX Central Plains Cement LLC (collectively, CEMEX) and Votorantim Participações S.A. (Votorantim) filed with the Commission an application pursuant to section 203 of the Federal Power Act seeking authorization for CEMEX to transfer to Votorantim the rights to lease a cogeneration facility located in Dixon, Illinois consisting of six generators rated at 2,290 KW each and appurtenant interconnection facilities. CEMEX states that the transaction will have no adverse effect on competition, rates or regulation.

Comment Date: 5 p.m. eastern time on March 2, 2005.

2. Oklahoma Gas and Electric Company, OGE Energy Resources, Inc.

[Docket Nos. ER98-511-003 and ER97-4345-015]

Take notice that on February 7, 2005, Oklahoma Gas and Electric Company and OGE Energy Resources, Inc. submitted an updated market power analysis.

Comment Date: 5 p.m. eastern time on February 28, 2005.

3. Tucson Electric Power Company

[Docket No. ER98-1150-003]

Take notice that on February 7, 2005, Tucson Electric Power Company tendered for filing an updated market power analysis in compliance with the Commission's order in Acadia Power Partners, L.L.C., 107 FERC ¶ 61,168 (2004).

Tucson Electric states that copies of the filing were served on parties on the official service lists in the above-captioned proceeding.

Comment Date: 5 p.m. eastern time on February 28, 2005.

4. Portland General Electric Company

[Docket No. ER98-1643-007]

Take notice that on February 7, 2005, Portland General Electric Company (PGE) filed with the Commission an updated generation market power analysis in accordance with AEP Power Marketing, Inc., et al, 107 FERC ¶ 61,018, order on reh'g, 108 FERC ¶ 61,026 (2004) and Acadia Power Partners, LLC et al., 107 FERC ¶ 61,168 (2004). PGE states that the PGE submission includes an updated market power study showing that PGE continues to satisfy the Commission's requirements for market rate authority.

Comment Date: 5 p.m. eastern time on February 28, 2005.

5. FirstEnergy Operating Companies, FirstEnergy Solutions Corp., FirstEnergy Generation Corporation, Jersey Central Power & Light Company, Metropolitan Edison Company, et al.

[Docket Nos. ER01-1403-002, ER01-2968-002, ER01-845-002, ER04-366-002, and ER04-372-002]

Take notice that on February 7, 2005, FirstEnergy Service Company tendered for filing an updated generation market power analysis prepared in accordance with the guidelines adopted by the Commission in AEP Power Marketing, Inc., 107 FERC ¶ 61,018 (2004).

Comment Date: 5 p.m. eastern time on February 28, 2005.

6. PSEG Lawrenceburg Energy Company LLC, PSEG Waterford Energy LLC

[Docket Nos. ER01-2460-003 and ER01-2482-003]

Take notice that on February 7, 2005, PSEG Lawrenceburg Energy Company LLC (PSEG Lawrenceburg) and PSEG Waterford Energy LLC (PSEG Waterford) (collectively, the Applicants) jointly submitted an updated market power analysis and updated tariff sheets in response to the Commission's November 16, 2004, letter finding that the Applicants' August 27, 2004, updated market power report was deficient due to the October 1, 2004, AEP-East integration into PJM Interconnection LLC Regional Transmission Organization.

Applicants state that copies of the filing were served on parties on the official service list in the above captioned proceeding.

Comment Date: 5 p.m. eastern time on February 28, 2005.

7. Armstrong Energy Limited Partnership, LLLP, Dominion Nuclear Marketing III, L.L.C., Elwood Energy LLC, Kincaid Generation, L.L.C., State Line Energy, L.L.C., Virginia Electric and Power Company

[Docket Nos. ER02-24-005, ER00-3746-006, ER99-1695-005, ER99-1432-006, ER96-2869-008, ER00-1737-006]

Take notice that on February 4, 2005, Dominion Resources Services, Inc. on behalf of Armstrong Energy Limited Partnership, LLLP, Dominion Nuclear Marketing III, L.L.C., Elwood Energy LLC, Kincaid Generation, L.L.C., State Line Energy, L.L.C., and Virginia Electric and Power Company submitted its amended response to the Commission's order issued May 13, 2004, implementing new generation market power analysis and mitigation procedures.

Comment Date: 5 p.m. eastern time on February 25, 2005.

8. Allegheny Power

[Docket No. ER03-453-002]

Take notice that on February 4, 2005, Allegheny Power submitted a refund report in compliance with the Commission's letter order accepting uncontested settlement issued July 23, 2003, in Docket No. ER03-453-000, 104 FERC ¶ 61,101 (2003).

Allegheny Power states that a copy of this letter will be sent to FirstEnergy Companies, the Pennsylvania Public Utility Commission and all persons listed on the official service list complied by the Secretary for this docket.

Comment Date: 5 p.m. eastern time on February 25, 2005.

9. New York Independent System Operator, Inc. and New York Transmission Owners

[Docket No. ER04-449-005]

Take notice that on February 7, 2005, the New York Independent System Operator, Inc. (NYISO), Central Hudson Gas & Electric Corporation, Consolidated Edison Company of New York, Inc., New York Power Authority, New York State Electric & Gas Corporation, Orange & Rockland Utilities, Inc., and Rochester Gas & Electric Corporation (collectively, Joint Rehearing Parties) submitted a compliance filing pursuant to the Commission's order issued August 6, 2004, in Docket Nos. ER04-449-000, 001 and 002, 108 FERC ¶ 61,159.

The NYISO states that it has served a copy of this filing on all parties on the official service list compiled by the Secretary in this proceeding.

Comment Date: 5 p.m. eastern time on February 28, 2005.

10. New York Independent System Operator, Inc. and New York Transmission Owners

[Docket No. ER04-449-006]

Take notice that on February 7, 2005, LIPA and Niagara Mohawk Power Corporation, a National Grid Company submitted a compliance filing pursuant to the Commission's order issued August 6, 2004, in Docket Nos. ER04-449-000, 001 and 002., 108 FERC ¶ 61,159.

Comment Date: 5 p.m. eastern time on February 28, 2005.

11. Midwest Independent Transmission, System Operator, Inc., Midwest Independent Transmission System Operator, Inc., et al., Midwest Independent Transmission System Operator, Inc., et al., Ameren Services Co., et al.

[Docket Nos. ER056-014, EL04-135-016, EL02-111-034, EL03-212-030]

Take notice that on February 7, 2005, the Midwest Independent Transmission System Operator, Inc. (Midwest ISO) and Midwest ISO Transmission Owners (collectively Applicants) jointly submitted for filing revisions to proposed Schedule 21 of the Midwest ISO open access transmission tariff submitted on November 24, 2004, in compliance with the Commission's November 18, 2004, Order, Midwest Independent Transmission System Operator, Inc., 109 FERC ¶ 61,168 (2004).

Applicants state that copies of the filing were served on parties on the official service list in the above-captioned proceeding.

Comment Date: 5 p.m. eastern time on February 28, 2005.

12. American Electric Power Service Corporation

[Docket No. ER05-426-001]

Take notice that on February 8, 2005, American Electric Power Service Corporation (AEP), acting as agent for Southwestern Electric Power Company (SWEPCO) submitted an amendment changing the designation number assigned to the facilities agreement submitted in its January 6, 2005 filing in Docket No. ER05-426-000.

Comment Date: 5 p.m. eastern time on February 18, 2005.

13. Sierra Pacific Power Company

[Docket No. ER05-559-000]

Take notice that on February 7, 2005, Sierra Pacific Power (Sierra) Company tendered for filing, a general transfer agreement executed by the United States of America Department of Energy acting by and through the Bonneville Power Administration and Sierra Pacific Power Company. Sierra states that this general transfer agreement is filed in compliance with Order 614 pursuant to a directive of the Division of Tariffs and Market Development dated December 3, 2003, requiring the agreement be refiled containing only currently operative terms.

Comment Date: 5 p.m. eastern time on February 28, 2005.

14. Midwest Independent Transmission System Operator, Inc.

[Docket Nos. ER05-560-000]

Take notice that on February 7, 2005, the Midwest Independent Transmission System Operator, Inc. (Midwest ISO) tendered for filing amendments to the coordination agreement by and between Midwest Independent Transmission System Operator Inc. and Manitoba Hydro. The Midwest ISO states that the proposed revisions provide for the development of a congestion management process in response to the planned start-up of the Midwest ISO energy markets while preserving the existing coordination framework between the parties. The Midwest ISO requests an effective date of February 8, 2005.

The Midwest ISO has also requested waiver of the service requirements set forth in 18 CFR 385.2010. The Midwest ISO states that it has electronically served a copy of this filing, with its attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at http://www.midwestiso.org under the heading “Filings to FERC” for other interested parties in this matter and that it will provide hard copies to any interested party upon request.

Comment Date: 5 p.m. eastern time on February 28, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-662 Filed 2-17-05; 8:45 am]

BILLING CODE 6717-01-P